DEPARTMENT OF DEFENSE

Department of the Army; Corps of Engineers

Intent To Prepare a Draft Environmental Impact Statement for the Matagorda Ship Channel, TX, Feasibility Study

AGENCY: Department of the Army, U.S. Army Corps of Engineers, DoD.

ACTION: Notice of Intent.

SUMMARY: The U.S. Army Corps of Engineers (USACE) intends to prepare a Draft Integrated Feasibility Report and Environmental Impact Statement (DIFR-EIS) to assess the social, economic and environmental effects of widening and deepening the Matagorda Ship Channel (MSC) in Calhoun and Matagorda counties, Texas. The DIFR-EIS will evaluate potential impacts of a range of alternatives, including the No Action alternative, structural and non-structural alternatives which address proposed navigation improvements in the study area. The DIFR-EIS will also present an assessment of impacts associated with the placement of dredged material, including potential new upland, confined placement areas, beneficial use of dredged material sites, and at Ocean Dredged Material Disposal Sites (ODMDS). The U.S. Environmental Protection Agency, as the lead Federal agency for designation of an ODMDS under Section 102 of the Marine Protection, Research and Sanctuaries Act of 1972, will utilize this assessment and public comments on the DIFR-EIS to evaluate the potential designation of a new ODMDS. The non-Federal sponsor for the study is the Calhoun Port Authority.

DATES: Comments on the scope of the DIFR-EIS will be accepted through February 13, 2017.

ADDRESSES: Scoping comments may be sent to: MSC-Feasibility@usace.army.mil or to USACE, Galveston District, (Attn: RPEC Coastal Section), P.O. Box 1229, Galveston, TX 77553-1229.

FOR FURTHER INFORMATION CONTACT: Galveston District Public Affairs Office at 409-766-3004 or swgpao@usace.army.mil.

SUPPLEMENTARY INFORMATION: 1. Authority. The study is authorized under Section 216 of the 1970 Rivers and Harbor Act, Public Law 91-611, 91st Congress, H.R. 19877, dated 31 December 1970.

2. Proposed Action. The study will evaluate a range of alternatives for deepening and widening the MSC from offshore in the Gulf of Mexico (Gulf) through the Point Comfort turning basin. Modifications to the existing 26-mile long navigation channel are needed to reduce transportation costs and increase operational efficiencies of maritime commerce movement through the channel. The existing MSC is comprised of an entrance channel about 4 miles long from the Gulf through a man-made cut across Matagorda Peninsula. The bayside channel is about 22 miles long across Matagorda and Lavaca Bays to Point Comfort with a turning basin at Point Comfort. Offshore and through the Matagorda Peninsula, the channel has a 300-foot bottom width and is maintained at a depth of 40 feet mean lower low water (MLLW). Generally, in Matagorda and Lavaca Bays, the channel has a 200-foot wide bottom width and is authorized to a project depth of 38 feet MLLW. In addition to No Action, specific alternatives to be evaluated are expected to include nonstructural measures, structural alternatives to modify the bayside channels of the MSC at depths ranging from -38 feet to -50 feet MLLW and at widths ranging from 200 feet to 400 feet, and alternatives to modify and extend the Entrance Channel to depths ranging from -40 feet to -55 fee MLLW and at widths ranging from 300 feet to 600 feet. The DIFR-EIS will also evaluate the impacts and potential benefits of a dredged material management plan (DMMP) for the material that would generated by construction and operation of the modified channel.

3. Scoping. A scoping meeting will be held on January 24, 2017 at the Bauer Civic Center, 2300 Highway 35 North, Port Lavaca, TX 77979, from 5:30 to 7:30 p.m. USACE requests public scoping comments to: (a) Identify the affected public and agency concerns; (b) identify the scope of significant issues to be addressed in the DIFR-EIS; (c) identify the critical problems, needs, and significant resources that should be considered in the DIFR-EIS; and (d) identify reasonable measures and alternatives that should be considered in the DIFR-EIS. Scoping comments are requested to be postmarked by February 13, 2017.

4. Coordination. Further coordination with environmental agencies will be conducted under the National Environmental Policy Act, the Fish and Wildlife Coordination Act, the Clean Water Act, the Clean Air Act, the National Historic and Preservation Act, the Magnuson-Stevens Fishery Conservation and Management Act, the Marine Protection, Research and Sanctuaries Act and the Coastal Zone Management Act under the Texas Coastal Management Program, among others.

5. Availability of DIFR-EIS. The DIFR-EIS is currently scheduled for release for public review and comment in April 2018.

Dated: December 14, 2016.
Lars N. Zetterstrom,
Colonel, U.S. Army, Commanding.

[FR Doc. 2016-30986 Filed 12-22-16; 8:45 am]

BILLING CODE 3720-58-P